FEDERAL MARITIME COMMISSION

[FMC-2026-0067]

Renewal of an Agency Information Collection of a Previously Approved Collection; 60-Day Public Comment Request; Containerized Freight Statistics—Imports and Exports; 3072-0074

AGENCY: Federal Maritime Commission.

ACTION: Sixty-day notice; request for comment.

SUMMARY: The Federal Maritime Commission (Commission) intends to seek re-approval, with revision, for Collection of Information 3072-0074 (Container vessel imports and exports) from the Office of Management and Budget (OMB). In accordance with the Paperwork Reduction Act of 1995 the Commission is requesting comments on this collection from all interested individuals and organizations prior to submitting our request to OMB.

DATES: Comments must be submitted or before March 27, 2026.

ADDRESSES: The Commission is accepting comments using the Federal eRulemaking Portal at www.regulations.gov. The docket for this notice, which includes a copy of the information collection instruction and submitted comments, can be found at www.regulations.gov under Docket No. FMC-2026-0067. Follow the instructions provided on Regulations.gov for submitting comments.

FOR FURTHER INFORMATION CONTACT: Direct requests for additional information regarding the collection listed in this notice to Michael Johnson, (202) 523-5796, mrjohnson@fmc.gov.

SUPPLEMENTARY INFORMATION: The Commission invites the general public and other Federal agencies to comment on the continuing information collection 0372-0074 (Container vessel imports and exports), as required by the Paperwork Reduction Act of 1995 (44 U.S.C. 3501 et seq.). We invite comments on: (1) the necessity and utility of the proposed information collection for the proper performance of the agency's functions; (2) the accuracy of the estimated burden; (3) ways to enhance the quality, utility, and clarity of the information to be collected; and (4) the use of the automated collection techniques or other forms of information technology to minimize the information collection burden. Comments submitted in response to this notice will be included or summarized in our request for Office of Management and Budget (OMB) approval of the information collection. All comments are part of the public record and subject to disclosure. Please do not include any confidential or inappropriate material in your comments.

Information Collection Open for Comment

Title: Container vessel imports and exports.

OMB Approval Number: 3072-0074.

Form Number: Not applicable.

Request Type: Revision of a currently approved collection.

Abstract: The Ocean Shipping Reform Act of 2022 (OSRA 2022) mandates that: “The Federal Maritime Commission shall publish on its website a calendar quarterly report that describes the total import and export tonnage and the total loaded and empty 20-foot equivalent units per vessel (making port in the United States, including any territory or possession of the United States) operated by each ocean common carrier covered under this chapter. Ocean common carriers under this chapter shall provide to the Commission all necessary information, as determined by the Commission, for completion of this report.” 46 U.S.C. 41110. To comply with this quarterly reporting requirement the Commission will request information on tonnage and 20-foot equivalent units from each identified common carrier on a monthly basis. The information will be used to compile and publish a quarterly report on total import and export tonnage and total loaded and empty 20-foot equivalent units per vessel operated by common carriers.

Needs and Uses: The Commission will use collected data to publish a quarterly report as directed by 46 U.S.C. 41110.

Respondents: The thirty (30) largest vessel-operating common carriers by containerized cargo volume transporting 20-foot equivalent units (total across imports and exports, regardless of whether they are laden) in or out of the United States in ocean borne foreign commerce. (The Commission estimates that these thirty (30) largest carriers are responsible for transporting 98 percent of the market share of containerized freight moving in international commerce to and from the United States.)

Estimated Number of Annual Respondents: 30.

Estimated Time per Response: 6 hours and 40 minutes.

Frequency: Information will be collected monthly.

Total Annual Burden: 2,401 hours.

For the Commission.
David Eng,
Secretary.

[FR Doc. 2026-01443 Filed 1-23-26; 8:45 am]

BILLING CODE 6730-02-P